DEPARTMENT OF TRANSPORTATION

Federal Aviation Administration

Notice of Intent To Request Approval From the Office of Management and Budget of a New Information Collection Activity, Request for Comments; National Flight Attendant Duty/Rest/Fatigue Field Study

AGENCY: Federal Aviation Administration (FAA), DOT.

ACTION: Notice and request for comments.

SUMMARY: In response to a Congressional directive to conduct a flight attendant fatigue study, FAA's Civil Aerospace Medical Institute, will initiate a comprehensive analysis of fatigue in flight attendants across a range of operational conditions.

DATES: Please submit comments by November 28, 2008.

FOR FURTHER INFORMATION CONTACT: Carla Mauney on (202) 267-9895, or by e-mail at: Carla.Mauney@faa.gov.

SUPPLEMENTARY INFORMATION:

Federal Aviation Administration (FAA)

Title: National Flight Attendant Duty/Rest/Fatigue Field Study.

Type of Request: New collection.

OMB Control Number: 2120-XXXX.

Forms(s): There are no FAA forms associated with this collection.

Affected Public: A total of 210 Respondents.

Frequency: The information will be collected daily for one month.

Estimated Average Burden per Response: Approximately 45 minutes per response.

Estimated Annual Burden Hours: An estimated 4,725 hours.

Abstract: In response to a Congressional directive to conduct a flight attendant fatigue study, FAA's Civil Aerospace Medical Institute, will initiate a comprehensive analysis of fatigue in flight attendants across a range of operational conditions. The specific goals of this project are to systematically assess activity patterns, fatigue, and performance on- and off-duty in 210 flight attendants of various levels of seniority from US-based network, low-cost, and regional carriers embarking on domestic and extended international flights.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 20, 2008.
Carla Mauney,
FAA Information Collection Clearance Officer, IT Enterprises Business Services Division, AES-200.

[FR Doc. E8-25507 Filed 10-27-08; 8:45 am]

BILLING CODE 4910-13-M